FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012307-001.

Title: Maersk Line/APL Slot Exchange Agreement.

Parties: A.P. Moller-Maersk A/S trading under the name of Maersk Line and APL Co. Pte. Ltd./American President Lines, Ltd. (acting as a single party).

Filing Party: Wayne Rohde, Esq.; Cozen O'Connor; 1200 19th Street NW., Washington, DC 20036.

Synopsis: The amendment would revise the amount of space to be chartered, delete obsolete language from the agreement, and change the Maersk entity that is party to the agreement.

Agreement No.: 012365.

Title: Volkswagen Konzernlogistik GmbH & Co. OHG.

Parties: Volkswagen Konzernlogistik GmBH & Co. OHG and Nippon Yusen Kaisha.

Filing Party: Eric. C. Jeffrey, Esq.; Nixon Peabody LLP; 799 9th Street NW., Suite 500, Washington, DC 20001.

Synopsis: The agreement authorizes the parties to charter space to each other for the transportation of vehicles and other Ro/Ro cargo in the trade between the U.S. on the one hand, and Mexico, Germany and Canada on the other hand.

By Order of the Federal Maritime Commission.
Dated: October 9, 2015.
Rachel E. Dickon,
Assistant Secretary.

[FR Doc. 2015-26250 Filed 10-14-15; 8:45 am]

BILLING CODE 6731-AA-P